FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 23, 2012.

A. Federal Reserve Bank of Chicago (Colette A. Fried, Assistant Vice President) 230 South LaSalle Street, Chicago, Illinois 60690-1414:

1. The Duncan, Hrvol, and Molzen Families consisting of E. Ray Duncan, individually and as beneficiary of the Hardware State Bank 401K Plan and as beneficiary of the Sullivan Bancshares, Inc. Employee Savings and Retirement Plan, together as a group acting in concert with Sally Foley Duncan and Sally Foley Duncan, as Trustee of the John K. Foley Revocable Living Trust and as beneficiary of the Hardware State Bank 401K Plan, the John K. Foley Revocable Living Trust, and Gloria Foley, all of Lovington, Illinois, and Paul Michael Hrvol, Jr. and Paul Michael Hrvol, Jr., as beneficiary of the Sullivan Bancshares, Inc. Employee Savings and Retirement Plan, Michelle Beth Hrvol and Michelle Beth Hrvol, as beneficiary of the Sullivan Bancshares, Inc. Employee Savings and Retirement Plan, all of Sullivan, Illinois, and Roger Reid Molzen and Roger Reid Molzen, as beneficiary of the Sullivan Bancshares, Inc. Employee Savings and Retirement Plan and Christina DeAnne Molzen, all of Sullivan, Illinois, collectively as a group acting in concert, to retain shares of Moultrie Bancorp, Inc. and thereby indirectly control Hardware State Bank, both of Lovington, Illinois.

Board of Governors of the Federal Reserve System, April 3, 2012.
Robert deV. Frierson,
Deputy Secretary of the Board.

[FR Doc. 2012-8321 Filed 4-5-12; 8:45 am]

BILLING CODE 6210-01-P